DEPARTMENT OF HEALTH AND HUMAN SERVICES

Health Resources and Services Administration

National Advisory Council on Migrant Health; Notice of Meeting

In accordance with section 10(a)(2) of the Federal Advisory Committee Act (Pub. L. 92-463), notice is hereby given of the following meeting:

Name: National Advisory Council on Migrant Health.

Dates and Times: May 13, 2011, 2 p.m. to 5 p.m., May 14, 2011, 8:30 a.m. to 5 p.m. May 15, 2011, 8:30 a.m. to 2 p.m.

Place: Delray Beach Residence Inn, 1111 East Atlantic Avenue, Delray Beach, Florida 33483. Telephone: 561-276-7441. Fax: 561-276-7445.

Status: The meeting will be open to the public.

Purpose: The purpose of the meeting is to discuss services and issues related to the health of migrant and seasonal farmworkers and their families and to formulate recommendations for the Secretary of Health and Human Services.

Agenda: The agenda includes an overview of the Council's general business activities. The Council will also hear presentations from experts on farmworker issues, including the status of farmworker health at the local and national levels.

Agenda items are subject to change as priorities indicate.

For Further Information Contact: Marcia Gomez, M.D., Office of Special Population Health, Bureau of Primary Health Care, Health Resources and Services Administration, 5600 Fishers Lane, Maryland 20857; telephone (301) 594-4897.

Dated: April 13, 2011.
Reva Harris,
Acting Director, Division of Policy and Information Coordination.

[FR Doc. 2011-9549 Filed 4-19-11; 8:45 am]

BILLING CODE 4165-15-P